DEPARTMENT OF HEALTH AND HUMAN SERVICES

Office of the Assistant Secretary for Health

Meeting of the Pain Management Best Practices Inter-Agency Task Force; Correction

AGENCY: Office of the Assistant Secretary for Health, Office of the Secretary, Department of Health and Human Services.

ACTION: Notice; correction.

SUMMARY: The Office of the Assistant Secretary for Health published a document in the Federal Register of June 3, 2019, announcing the Pain Management Best Practices Inter-Agency Task Force's virtual public meeting. This document is announcing a change in the meeting date.

FOR FURTHER INFORMATION CONTACT: Ms. Alicia Richmond Scott, 240-453-2816; paintaskforce@hhs.gov.

SUPPLEMENTARY INFORMATION:

Correction

In the Federal Register of June 3, 2019, in FR Doc. 2019-11473, on page 25548, in the first column, correct the DATES caption to read:

DATES: The Task Force meeting will be held on Wednesday, June 26, 2019 from 5:00 p.m. to 6:30 p.m. Eastern Time (ET). The agenda will be posted on the Task Force website at https://www.hhs.gov/ash/advisory-committees/pain/index.html.

Dated: June 6, 2019.
Vanila M. Singh,
Chief Medical Officer, Chair, Pain Management Best Practices Inter-Agency Task Force, Office of the Assistant Secretary for Health.

[FR Doc. 2019-12482 Filed 6-12-19; 8:45 am]

BILLING CODE 4150-28-P